DEPARTMENT OF THE INTERIOR

National Park Service

[N6632; NPS-WASO-NAGPRA-NPS0041365; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of unassociated funerary objects, sacred objects, and/or objects of cultural patrimony and that have a cultural affiliation with the Indian Tribes or Native Hawaiian organizations in this notice.

DATES: Repatriation of the cultural items in this notice may occur on or after January 15, 2026.

ADDRESSES: Send additional, written requests for repatriation of the cultural items in this notice to Megan Murphy, University of California, Riverside, 900 University Avenue, Riverside, CA 92517-5900, megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of six cultural items have been requested for repatriation. The six objects of cultural patrimony are three lots of ceramics and three lots of lithics.

In 1987, the University of California, Riverside Archaeological Research Unit (UCR-ARU) was contracted to conduct archaeological surveys along to route of a proposed KV transmission line spanning 55 miles through southern Riverside and northern Imperial counties. The general path of the proposed line followed the eastern shore of the Salton Sea and the eastern shore of the ancestral Lake Cahuilla. A total of twenty-two prehistoric archaeological sites, seven isolated artifacts, and three historical sites were recorded by the UCR-ARU over the course of the project. Artifacts were collected from the surface of archaeological sites CA-RIV-3210, CA-RIV-3216, CA-RIV-3374, CA-RIV-3217, and CA-RIV-3221 which were located in the Durmid and Mortmar region of the Coachella Valley. Archaeological sites CA-RIV-3210, CA-RIV-3216, and CA-RIV-3374 described by archaeologists as flake and ceramic scatters and the materials collected from these sites were housed at UCR under accession number 124. Archaeological site CA-RIV-3217 was described by archaeologists as a large seasonal campsite located along the eastern shore of ancestral lake Cahuilla; objects collected from the site were housed at UCR under accession number 134. Archaeological site CA-RIV-3221 was also described as a lithic and ceramic scatter and surface finds were housed at UCR under accession number 135. The shorelines of the Salton Sea and ancestral Lake Cahuilla are located within the area traditionally occupied by the ancestors of the desert divisions of the Cahuilla tribes. In 2025, representatives of the Torres-Martinez Desert Cahuilla Indians reviewed UCR accessions 124, 134, and 135 and identified the materials as objects of cultural patrimony, which are important to the history of the desert Cahuilla people.

Determinations

The University of California, Riverside has determined that:

• The six objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Torres Martinez Desert Cahuilla Indians, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: November 19, 2025.
Melanie O'Brien,
Manager, National NAGPRA Program.

[FR Doc. 2025-22910 Filed 12-15-25; 8:45 am]

BILLING CODE 4312-52-P